DEPARTMENT OF TRANSPORTATION

Federal Aviation Administration

14 CFR Part 39

[Docket No. FAA-2004-18538; Directorate Identifier 2004-NE-29-AD; Amendment 39-13711; AD 2004-14-02]

RIN 2120-AA64

Airworthiness Directives; Rolls-Royce Corporation (formerly Allison Engine Company, Allison Gas Turbine Division, and Detroit Diesel Allison) Models 250-C28, -C28B, and -C28C Turboshaft Engines; Correction

AGENCY: Federal Aviation Administration, DOT.

ACTION: Final rule; correction.

SUMMARY: This document makes a correction to Airworthiness Directive (AD) 2004-14-02. That AD applies to Rolls-Royce Corporation (formerly Allison Engine Company, Allison Gas Turbine Division, and Detroit Diesel Allison) models 250-C28, -C28B, and -C28C turboshaft engines with certain serial number (SN) third-stage turbine wheels, part number (P/N) 6899383. We published AD 2004-14-02 in the Federal Register on July 9, 2004 (69 FR 41389). The SUMMARY and the SUPPLEMENTAL INFORMATION paragraphs each have a sentence that is not clear. This document corrects these two sentences. In all other respects, the original document remains the same.

DATES: Effective August 11, 2005.

FOR FURTHER INFORMATION CONTACT: John Tallarovic, Aerospace Engineer, Chicago Aircraft Certification Office, FAA, 2300 East Devon Avenue, Des Plaines, IL 60018-4696; telephone (847) 294-8180; fax (847) 294-7834.

SUPPLEMENTARY INFORMATION: A final rule; request for comments AD, FR Doc. 04-15508, that applies to Rolls-Royce Corporation (formerly Allison Engine Company, Allison Gas Turbine Division, and Detroit Diesel Allison) models 250-C28, -C28B, and -C28C turboshaft engines with certain SN third-stage turbine wheels, P/N 6899383, was published in the Federal Register on July 9, 2004, (69 FR 41389). The following corrections are needed:

On page 41390, in the first column, in the SUMMARY, in the twelfth line, “before reaching new reduced life limits” is corrected to read “before the new reduced life limits for these turbine wheels are reached”.

On page 41390, in the first column, in the SUPPLEMENTARY INFORMATION, in the twelfth line, “manufactured and accepted with a blueprint variance” is corrected to read “manufactured and inadvertently accepted with a blueprint variance”.

Issued in Burlington, MA, on August 4, 2005.
Jay J. Pardee,
Manager, Engine and Propeller Directorate, Aircraft Certification Service.

[FR Doc. 05-15896 Filed 8-10-05; 8:45 am]

BILLING CODE 4910-13-P